FEDERAL MARITIME COMMISSION

Sunshine Act Meeting

AGENCY HOLDING THE MEETING: Federal Maritime Commission.

TIME AND DATE: September 20, 2017; 10:00 a.m.

PLACE: 800 N. Capitol Street NW., First Floor Hearing Room, Washington, DC.

STATUS: The first portion of the meeting will be held in Open Session; the second portion in Closed Session.

Matters To Be Considered:

Portions Open to the Public

1. Briefing by Commissioner Dye on the Supply Chain Innovation Teams and Update from Global Liner Shipping Asia Conference

2. Staff Briefing on Review Process for Carrier and Marine Terminal Operator Agreements

Portions Closed to the Public

1. Staff Update on Petition of the Coalition for Fair Port Practices (P4-16)

CONTACT PERSON FOR MORE INFORMATION: Rachel E. Dickon, Assistant Secretary (202) 523 5725.

Rachel E. Dickon,
Assistant Secretary.

[FR Doc. 2017-19847 Filed 9-14-17; 11:15 am]

BILLING CODE 6731-AA-P